GENERAL SERVICES ADMINISTRATION

Water Resources Development Act of 1999, Candy Lake Project, Oklahoma; Availability of Purchase

AGENCY: Office of Real Property Disposal Office, General Services Administration (GSA).

ACTION: Notice.

SUMMARY: In accordance with the Water Resources Development Act of 1999, as amended, the Candy Lake Project, Osage County, Oklahoma, has become surplus to the needs of the Government. Under this law, the previous owner(s) of the land or their direct descendant(s) are given the opportunity to purchase the property for the fair market value, without competition.

DATES: All Applications to Purchase must be executed and returned to the General Services Administration no later than January 24, 2005.

ADDRESSES: Return all Applications to Purchase to the General Services Administration, Real Property Disposal Division (7PR), 817 Taylor Street, Room 11B03, Fort Worth, TX 76102.

FOR FURTHER INFORMATION CONTACT: Mr. Melvin Freeman, Realty Officer, General Services Administration (GSA), Real Property Disposal Division (7PR), 817 Taylor Street, Room 11B03, Fort Worth, TX 76102, telephone 817-978-3856, or e-mail melvin.freeman@gsa.gov if you are a previous owner (or a direct descendant) of land that was conveyed to the Corps of Engineers for use in the Candy Lake Project in Osage County, Oklahoma, and desire to repurchase the land and request Application to Purchase (7-D-OK-0529).

SUPPLEMENTARY INFORMATION: The property is identified as follows:

Tract No. | Acreage | FMV | Original owner
101-1 | 215.69 | $86,275 | Chester James Thornton, Mildred Laverne Thorton.
101-2 | 8.02 | 2,800 | Chester James Thornton, Mildred Laverne Thornton.
102 | 400.0 | 110,000 | Joseph Fingerlin
106 | 59.41 | 10,400 | Ana Bates Other.
107 | 530.65 | 265,325 | Roy Glasco.
108 | 218.5 | 87,400 | Bud Crutchfield, Alberta Crutchfield.
109 | 120.0 | 48,000 | William M. Smith, Alice A. Smith.
111 | 205.41 | 112,975 | Rose Martin.
112 | 1.21 | 120 | Betty Bowen.
113 | 160.0 | 104,000 | Wilma Kohlmeyer, Richard Ernest Kohlmeyer, Kristen Marie Kohlmeyer, Emma Jo Sutton, and William W. Sutton.
114-1 | 190.74 | 47,675 | Henry C. Kohlmeyer, et al.
114-2 | 25.95 | 4,550 | Henry C. Kohlmeyer, et al.
116 | 23.83 | 4,175 | James E. Barnett, et al.
117 | 30.0 | 21,000 | Donald E. Hazelwood, et al.
118 | 55.0 | 33,000 | Roger Franklin McWilliams, Dawn McWilliams.
119-1 | 32.27 | 19,350 | Harry Littleton, et al.
119-2 | 3.24 | 1,125 | Harry Littleton, et al.
121 | 338.48 | 59,225 | John Francis Murphy, Linda K. Murphy.
201 | 160.0 | 104,000 | Floyd Lemley, Mary Frances Lemley.
202 | 74.26 | 40,850 | Troy E. Miller, Wanda M. Miller, Bobby W. Miller, Diane E. Miller.
203 | 40.0 | 26,000 | Lewis J. Rutherford, et al.
204 | 46.96 | 25,825 | James H. Gray, Ethel Mae Gray.
206-1 | 19.46 | 3,400 | Michael T. Eschbach, Geraldine L. Eschbach.
206-2 | 4.17 | 725 | Michael T. Eschbach, Gerald L. Eschbach.
207-1 | 692.86 | 363,750 | Oklahoma Land and Cattle Company, Inc., et al.
207-2 | 1.33 | 675 | Oklahoma Land and Cattle Company, Inc., et al.
107E-10 | ¹ 9.97 | 4,475 | Oklahoma Land and Cattle Company, Inc., et al.
110E | ¹ 1.30 | 50 | Charlotte Tucker.
207E-17 | ¹ 1.34 | 10 | Oklahoma Land and Cattle Company, Inc., et al.
¹ Road.

All Applications to Purchase must be executed and returned to the General Services Administration no later than January 24, 2005. Though a contract for sale and closing may not be readily accomplished, the time within which you respond may affect your eligibility to purchase. The first person to execute and return an acceptable Application to Purchase has the first option to purchase if the previous owner(s) is not interested.

All previous owners or direct descendants will be required to substantiate that they are a previous owner (or direct descendant) of the property they wish to purchase.

Dated: July 19, 2004.
Melvin Freeman,
Project Manager, GSA Real Property Disposal Office (7PR).

(c) Candy Lake Project, Osage County, Oklahoma.—

(1) Definitions.—In this subsection:

(A) Fair market value.—The term “fair market value” means the amount for which a willing buyer would purchase and a willing seller would sell a parcel of land, as determined by a qualified, independent land appraiser.

(B) Previous owner of land.—The term “previous owner of land” means a person (including a corporation) that conveyed, or a descendant of a deceased individual who conveyed, land to the Corps of Engineers for use in the Candy Lake project in Osage County, Oklahoma.

(2) Conveyances.—

(A) In general.—The Secretary shall convey all right, title, and interest of the United States in and to the land acquired by the United States for the Candy Lake project in Osage County, Oklahoma.

(B) Previous owners of land.—

(i) In general.—The Secretary shall give a previous owner of land the first option to purchase the land described in subparagraph (A).

(ii) Application.—

(I) In general.—A previous owner of land that desires to purchase the land described in paragraph (1) that was owned by the previous owner of land, or by the individual from whom the previous owner of land is descended, shall file an application to purchase the land with the Secretary not later than 180 days after the official date of notice to the previous owner of land under paragraph (3).

(II) First to file has first option.—If more than 1 application is filed to purchase a parcel of land described in subparagraph (A), the first option to purchase the parcel of land shall be determined in the order in which applications for the parcel of and were filed.

(iii) Identification of previous owners of land.—As soon as practicable after the date of enactment of this Act, the Secretary shall, to the extent practicable, identify each previous owner of land.

(iv) Consideration.—Consideration for land conveyed under this subsection shall be the fair market value of the land.

(C) Disposal.—Any land described in subparagraph (A) for which an application to purchase the land has not been filed under subparagraph (B)(ii) within the applicable time period shall be disposed of in accordance with law.

[[Page 113 STAT. 358]]

(D) Extinguishment of easements.—All flowage easements acquired by the United States for use in the Candy Lake project in Osage County, Oklahoma, are extinguished.

(3) Notice.—

(A) In general.—The Secretary shall notify—

(i) each person identified as a previous owner of land under paragraph (2)(B)(iii), not later than 90 days after identification, by United States mail; and

(ii) <<NOTE: Federal Register, publication.>> the general public, not later than 90 days after the date of enactment of this Act, by publication in the Federal Register.

(B) Contents of notice.—Notice under this paragraph shall include—

(i) a copy of this subsection;

(ii) information sufficient to separately identify each parcel of land subject to this subsection; and

(iii) specification of the fair market value of each parcel of land subject to this subsection.

(C) Official date of notice.—The official date of notice under this subsection shall be the later of—

(i) the date on which actual notice is mailed; or

(ii) the date of publication of the notice in the Federal Register.

* * * * *

(i) Candy Lake Project, Osage County, Oklahoma.—Section 563(c)(1)(B) of the Water Resources Development Act of 1999 (113 Stat. 357) is amended by striking “a deceased individual” and inserting “an individual”.

[FR Doc. 04-17011 Filed 7-26-04; 8:45 am]

BILLING CODE 6820-YM-P